ENVIRONMENTAL PROTECTION AGENCY

[EPA-HQ-OPP-2018-0139; FRL-9988-13-OEI]

Agency Information Collection Activities; Submitted to OMB for Review and Approval; Comment Request; Labeling Requirements for Certain Minimum Risk Pesticides Under FIFRA Section 25(b) (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): “Labeling Requirements for Certain Minimum Risk Pesticides under FIFRA Section 25(b),” identified by EPA ICR No. 2475.03 and OMB Control No. 2070-0187. This is a request to renew the approval of an existing ICR. The ICR, which is available in the docket along with other related materials, provides a detailed explanation of the collection activities and the burden estimate that is only briefly summarized in this document. EPA received one comment in response to the previously provided public review opportunity issued in the Federal Register on May 30, 2018; however, the comment submitted to the docket did not pertain to this ICR. With this submission, EPA is providing an additional 30 days for public review and comment.

DATES: Comments must be received on or before January 22, 2019.

ADDRESSES: Submit your comments, identified by docket identification (ID) number EPA-HQ-OPP-2018-0139 and OMB Control No. 2070-0187, to both EPA and OMB as follows:

• To EPA online using http://www.regulations.gov (our preferred method) or by mail to: EPA Docket Center, Environmental Protection Agency, Mail Code 28221T, 1200 Pennsylvania Ave. NW, Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Ryne Yarger, Field and External Affairs Division (7506P), Office of Pesticide Programs, Environmental Protection Agency, 1200 Pennsylvania Ave. NW, Washington, DC 20460-0001; telephone number: (703) 605-1193; email address: yarger.ryne@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on February 28, 2019. Under OMB regulations, the Agency may continue to conduct or sponsor the collection of information while this submission is pending at OMB. Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This information collection request documents the PRA burden for the labeling requirements for certain minimum risk pesticide products exempt from Federal Insecticide, Fungicide, and Rodenticide Act (FIFRA) registration under 40 CFR 152.25(f). Under 40 CFR 152.25(f), EPA has exempted from the requirement of FIFRA registration certain pesticide products if they are composed of specified ingredients and labeled accordingly. EPA created the exemption for minimum risk pesticides to eliminate the need for industry or business to expend significant resources to apply for and maintain regulated products that are deemed to be of minimum risk to human health and the environment. In addition, exempting such products freed Agency resources to focus on evaluating formulations whose toxicity was less well characterized, or was of higher toxicity.

In a 2015 Final Rule (80 FR 80653; December 28, 2015), the Agency reorganized the ingredients lists and added specific chemical identifiers to clarify to manufacturers, the public, and Federal, state, and tribal inspectors the specific chemical substances that are permitted in minimum risk pesticide products. EPA also modified the label requirements to require the use of specific label display names of ingredients and to require producer contact information on the label. The primary goal of this rulemaking was to clarify the conditions of exemption for minimum risk pesticides by clarifying the specific ingredients that are permitted in minimum risk pesticide products and to provide company contact information on the label. The previous version of this ICR covered the paperwork burdens associated with existing products updating their labels to comply with the new requirements during the 2015 Final Rule's compliance period. EPA anticipates that those burdens have been realized, and is now accounting for the potential burden for new products coming into the market.

Respondents/Affected Entities: Individuals or entities engaged in activities related to the manufacturing of minimum risk pesticide products.

Respondent's obligation to respond: Required to obtain or retain a benefit (FIFRA sections 3 and 25; 40 CFR 152.25(f)).

Estimated total number of potential respondents: 49.

Frequency of response: On occasion.

Estimated total burden: 479 hours (per year). Burden is defined at 5 CFR 1320.3(b).

Estimated total costs: $52,202 (per year), includes no annualized capital investment or maintenance and operational costs.

Changes in the estimates: There is a decrease of 4,933.5 hours in the total 3-year estimated respondent burden compared with the ICR currently approved by OMB. This decrease reflects a reduction in the number of labels that need to be updated per year from 386 to 87. This change is considered an adjustment.

Courtney Kerwin,
Director, Regulatory Support Division.

[FR Doc. 2018-27585 Filed 12-20-18; 8:45 am]

BILLING CODE 6560-50-P